DEPARTMENT OF JUSTICE

Antitrust Division

Notice Pursuant to the National Cooperative Research and Production Act of 1993—Cooperative Research Group on Clean Diesel V

Correction

In notice document E9-10358 appearing on page 21403 in the issue of May 7, 2009, make the following correction:

On page 21403, in the first column, in the second line from the bottom, “Auburn Hills, NI” should read “Auburn Hills, MI”.

[FR Doc. Z9-10358 Filed 6-22-09; 8:45 am]

BILLING CODE 1505-01-D